DEPARTMENT OF JUSTICE

Antitrust Division

Notice Pursuant to the National Cooperative Research and Production Act of 1993—National Warheads and Energetics Consortium

Notice is hereby given that, on August 16, 2010, pursuant to Section 6(a) of the National Cooperative Research and Production Act of 1993, 15 U.S.C. 4301 et seq. (“the Act”), the National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Cornerstone Research Group, Inc., Dayton, OH; Cyalume Technologies, Inc., West Springfield, MA; Fibertek, Inc., Herndon, VA; GG Greene Enterprises Inc., Warren, PA; Hittite Microwave Corporation, Chelmsford, MA; Manufacturing Techniques, Inc., Kilmarnock, VA; QorTek, Inc., Williamsport, PA; Resodyn Acoustic Mixers, Butte, MT; Rockwell Collins, Cedar Rapids, IA; Sabre Consulting and Training, LLC, Wharton, NJ; and UTRON, Inc., Manassas, VA, have been added as a party to this venture.

No other changes have been made in either the membership or planned activity of the group research project. Membership in this group research project remains open, and NWEC intends to file additional written notifications disclosing all changes in membership.

On June 29, 2000, NWEC filed its original notification pursuant to Section 6(a) of the Act. The Department of Justice published a notice in the Federal Register pursuant to section 6(b) of the Act on June 30, 2000 (65 FR 40693).

The last notification was filed with the Department on April 16, 2009. A notice was published in the Federal Register pursuant to section 6(b) of the Act on May 22, 2009 (74 FR 24035).

Patricia A. Brink,
Deputy Director of Operations, Antitrust Division.

[FR Doc. 2010-22221 Filed 9-7-10; 8:45 am]

BILLING CODE 4410-11-M